DEPARTMENT OF HEALTH AND HUMAN SERVICES

Notice of Availability: 2015 EditionTest Tools and Test Procedures Approved by the National Coordinator for the ONC Health IT Certification Program

AGENCY: Office of the National Coordinator for Health Information Technology (ONC), Department of Health and Human Services.

ACTION: Notice.

SUMMARY: This notice announces the availability of test tools and test procedures approved by the National Coordinator for Health Information Technology for the testing of Health IT Modules to the 2015 Edition health IT certification criteria under the ONC Health IT Certification Program. The approved test tools and test procedures are identified on the ONC Web site at: https://www.healthit.gov/policy-researchers-implementers/2015-edition-test-method.

FOR FURTHER INFORMATION CONTACT: Alicia Morton, Director, ONC Health IT Certification Program, Office of the National Coordinator for Health Information Technology, 202-690-7151.

SUPPLEMENTARY INFORMATION: On January 7, 2011, the Department of Health and Human Services issued a final rule establishing a permanent certification program for the purposes of testing and certifying health information technology (“Establishment of the Permanent Certification Program for Health Information Technology,” (76 FR 1262) (“Permanent Certification Program final rule”). The permanent certification program was renamed the ONC HIT Certification Program in a final rule published on September 4, 2012 (77 FR 54163) (“2014 Edition final rule”), and subsequently renamed the ONC Health IT Certification Program in a final rule published on October 16, 2015 (80 FR 62601) (“2015 Edition final rule”). In the preamble of the Permanent Certification Program final rule, we stated that when the National Coordinator for Health Information Technology (National Coordinator) had approved test tools and test procedures for certification criteria adopted by the Secretary, that ONC would publish a notice of availability in the Federal Register and identify the approved test tools and test procedures on the ONC Web site.

In the 2015 Edition final rule, the Secretary adopted a new edition of certification criteria (“2015 Edition”). The National Coordinator has approved test tools and test procedures for testing Health IT Modules to the 2015 Edition under the ONC Health IT Certification Program. These approved test tools and test procedures are identified on the ONC Web site at: https://www.healthit.gov/policy-researchers-implementers/2015-edition-test-method.

Authority: 42 U.S.C. 300jj-11.

Dated: January 29, 2016.
Karen B. DeSalvo,
National Coordinator for Health Information Technology.

[FR Doc. 2016-02057 Filed 2-3-16; 8:45 am]

BILLING CODE 4150-45-P